DEPARTMENT OF THE INTERIOR

National Park Service

[NPS-WASO-NRNHL-0511-7359; 2280-665]

National Register of Historic Places; Notification of Pending Nominations and Related Actions

Nominations for the following properties being considered for listing or related actions in the National Register were received by the National Park Service before April 30, 2011. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, 202-371-6447. Written or faxed comments should be submitted by June 2, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief,
National Register of Historic Places/National Historic Landmarks Program.

ARKANSAS

Cross County

East Hamilton Avenue Historic District, E. Hamilton Ave. between N. Falls Blvd. & N. Killough Rd.; Eldridge Ct., Wynne, 11000330

GEORGIA

DeKalb County

Fischer, Dr. Luther C. and Lucy Hurt, House, 4146 Chamblee Dunwoody Rd., Atlanta, 11000331

Gordon County

Calhoun Downtown Historic District, Jct. of Court and Wall Sts., Calhoun, 11000332

MASSACHUSETTS

Essex County

Seaside Park, Atlantic Ave., Marblehead, 11000333

OKLAHOMA

Cleveland County

Oklahoma Center for Continuing Education Historic District, Bounded by Asp Ave., Kellogg Dr., Maple & 4th Sts., Norman, 11000334

Custer County

Thomas Community Building, 120 E. Broadway, Thomas, 11000335

Jackson County

Frazer Cemetery, ½ mi. S. of Jct. Cty. Rd. 202 & US 62, 2 mi. W. of Jackson County Courthouse, Altus, 11000336

Garnett, Elmer and Lela, House, 801 E. Commerce St., Altus, 11000337

Kiowa County

Joyce House, (Resources Designed by Herb Greene in Oklahoma MPS) Cty. Rd. 1620 EW, 2½ mi. W. of US 183, Snyder, 11000338

Lincoln County

Chandler Baseball Camp, 2000 W. Park Rd., Chandler, 11000339

Ottawa County

Dobson Family House, 106 A St., SW., Miami, 11000340

PENNSYLVANIA

Susquehanna County

Montrose Historic District, Roughly bounded by Wyalusing, Owego, Spruce & Chenango Sts., Lake Ave., High & Turrell Sts., Grow Ave., Jessup St., Montrose, 11000342

TEXAS

Dallas County

Adamson, W.H., High School, 201 E. 9th St., Dallas, 11000343

Santa Fe Terminal Building No. 4, 1033 Young St., Dallas, 11000344

Kerr County

Guthrie Building, 241 Earl Garrett St., Kerrville, 11000345

Newton County

Deweyville Swing Bridge, (Historic Bridges of Texas MPS) TX 12 & LA 12 at Sabine R., Deweyville, 11000346

Travis County

Wilshire Historic District, Bounded by SPRR, Ardenwood Rd., Wilshire Blvd. & the Delwood III subdivision, Austin, 11000347

VIRGINIA

Campbell County

Brookneal Historic District, Adams Ferry Rd., Old Main, Main E. Rush & Commerce Sts., Lynchburg, Wycliffe & Cook Aves., & Pick St., Brookneal, 11000348

Fairfax County

Vale School—Community House, 3124 Fox Mill Rd., Oakton, 11000349 Rockbridge County Chapel Hill, 68 Charming Ln., Lexington, 11000350

Wise County

St. Paul Historic District, Portions of 4th & 5th Aves., Russell & Broad Sts., St. Paul, 11000351

Sunnydale Farm, 12439 Sunnydale Farm Rd., Pound, 11000352

Request for REMOVAL has been made for the following resources:

INDIANA

Madison County

Fussell, Solomon, Farm IN 38 E. of jct. with Cty. Rd. 150 W., Pendleton, 92000675

Marion County

Harriett (Apartments and Flats of Downtown Indianapolis TR), 124-128 N. East St.,Indianapolis, 83000057

Vanderburgh County

Old Hose House No. 4, (Downtown Evansville MRA), 623 Ingle St., Evansville, 82001856

Wabash Valley Motor Company, (Downtown Evansville MRA), 206-208 SE. 8th St., Evansville 82000126

OREGON

Multnomah County

Shriners Hospital for Crippled Children, 8200 NE. Sandy Blvd. Portland 89001869

[FR Doc. 2011-12128 Filed 5-17-11; 8:45 am]

BILLING CODE 4312-51-P